DEPARTMENT OF VETERANS AFFAIRS

[OMB Control No. 2900-0160]

Agency Information Collection (Title 38, Parts 51 and 52, State Home Programs) Activities Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden and includes the actual data collection instrument.

DATES: Written comments and recommendations on the proposed collection of information should be received on or before January 11, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0160 (Title 38, Parts 51 and 52, State Home Programs)” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0160 (Title 38, Parts 51 and 52, State Home Programs)” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

SUPPLEMENTARY INFORMATION: Titles: Title 38, Parts 51 and 52, State Home Programs.

OMB Control Number: 2900-0160, (Title 38, Parts 51 and 52, State Home Programs).

Type of Review: Revision.

Abstract: Title 38, CFR part 51, provides for the payment of per diem to State homes that provide nursing home care to eligible veterans. Title 38, CFR part 52, provides for the payment of per diem to State homes that provide adult day health care to eligible veterans. The intended effect of these provisions was to ensure that veterans receive high quality care in State Homes. To ensure that high quality care is furnished veterans, VA requires those facilities providing nursing home care and adult day health care programs to veterans to supply various kinds of information. The information required includes an application for recognition based on certification; appeal information, application and justification for payment; records and reports which facility management must maintain regarding activities of residents or participants; information relating to whether the facility meets standards concerning residents' rights and responsibilities prior to admission or enrollment, during admission or enrollment, and upon discharge; the records and reports which facilities management and health care professionals must maintain regarding residents or participants and employees; various types of documents pertaining to the management of the facility; food menu planning; pharmaceutical records; and life safety documentation. VA Form 10-10EZ (OMB approval 2900-0091) is used in conjunction with the VA Form 10-10SH.

Affected Public: State, Local or Private Government.

Estimated Annual Burden: 6,858 Burden hours.

a. State Home Inspection Staffing Profile, VA Form 10-3567—69.5 hrs.

b. State Home Report and State of Federal Aid Claimed, VA Form 10-5588—834 hrs.

c. Claim for Payment for Nursing Home Care Provided to Veterans Awarded Retroactive Service Connection, VA Form 10-5588A—180 hrs.

d. State Home Program Application for Veteran Care—Medical Certification, VA Form 10-10SH—3,802 hrs.

e. Department of Veterans Affairs Certification Regarding Drug-Free Workplace Requirements for Grantees Other Than Individuals, VA Form 10- 0143—12 hrs.

f. Statement of Assurance of Compliance with Section 504 of the Rehabilitation Act of 1973, VA Form 10-1043a—12 hrs.

g. Certification Regarding Lobbying, VA Form 10-0144—12 hrs.

h. Statement of Assurance of Compliance with Equal Opportunity Laws, VA Form 10-0460—12 hrs.

i. Request for Prescription Drugs from an Eligible Veteran in a State Home, VA Form 10-0144a—12 hrs.

j. Application for Recognition (Letter to Under Secretary for Health)—2 hrs.

k. Recognition & Certification (Sections 51.30 and 52.30)—120 hrs.

l. Quality of Life (Sections 51.100 and 52.100)—350 hrs.

m. Section, Administration and (Section 51.210 and 52.210)—1,400 hrs.

Estimated Average Burden per Respondent:

Frequency of Response: On Occasion.

Estimated Number of Respondents: 12,884.

By direction of the Secretary.
Kathleen M. Manwell,
Program Analyst, VA Privacy Service, Office of Privacy and Records Management, Department of Veterans Affairs.

[FR Doc. 2015-31107 Filed 12-9-15; 8:45 am]

BILLING CODE 8320-01-P